DEPARTMENT OF AGRICULTURE

Agricultural Marketing Service

7 CFR Part 51

[Doc. Number AMS-FV-14-0090, FV-15-327]

U.S. Standards for Grades of Fresh Fruits and Vegetables, Fruits and Vegetables for Processing, Nuts, and Specialty Crops

AGENCY: Agricultural Marketing Service, USDA.

ACTION: Notice.

SUMMARY: The Agricultural Marketing Service (AMS) of the U.S. Department of Agriculture (USDA) proposes revising 46 U.S. Standards for Grades of fresh fruits and vegetables, fruits and vegetables for processing, nuts, and specialty crops by removing the “Unclassified” category from each standard. This would bring these grade standards in line with other recently amended standards and current terminology. This revision would update the standards to more accurately represent today's marketing practices and provide the industry with greater flexibility.

DATES: Comments must be received by November 2, 2015.

ADDRESSES: Interested persons are invited to submit written comments to the Standardization Branch, Specialty Crops Inspection Division, Fruit and Vegetable Program, Agricultural Marketing Service, U.S. Department of Agriculture, National Training and Development Center, Riverside Business Park, 100 Riverside Parkway, Suite 101, Fredericksburg, VA 22406; Fax: (540) 361-1199, or on the web at: www.regulations.gov. The current U.S. Grade Standards for the 46 affected commodities are available on the AMS Web site at www.ams.usda.gov/scistandardization. Comments should reference the dates and page number of this issue of the Federal Register. Comments will be made available for public inspection in the above office during regular business hours and can also be viewed, as submitted, with any personal information provided, on the www.regulations.gov Web site.

FOR FURTHER INFORMATION CONTACT: Olivia Vernon, Standardization Branch, Specialty Crops Inspection Division, at the address above or by telephone at (540) 361-2743; fax (540) 361-1199; or, email olivia.vernon@ams.usda.gov. The current U.S. Standards for Grades are available on the AMS Web site at www.ams.usda.gov/scistandardization.

SUPPLEMENTARY INFORMATION: Section 203(c) of the Agricultural Marketing Act of 1946 (7 U.S.C. 1621-1627), as amended, directs and authorizes the Secretary of Agriculture “to develop and improve standards of quality, condition, quantity, grade and packaging, and recommend and demonstrate such standards in order to encourage uniformity and consistency in commercial practices.” AMS is committed to carrying out this authority in a manner that facilitates the marketing of agricultural commodities and makes copies of official grade standards available upon request. The U.S. Standards for Grades of Fruits and Vegetables not connected with Federal Marketing Orders or U.S. import requirements no longer appear in the Code of Federal Regulations, but are maintained by USDA, AMS, Fruit and Vegetable Program, and are available on the Internet at www.ams.usda.gov/scihome.

AMS is revising these voluntary U.S. standards for grades using the procedures in Part 36, Title 7 of the Code of Federal Regulations (7 CFR part 36).

Background

AMS proposes to eliminate the “Unclassified” section in 46 U.S. grade standards that were issued under the Agricultural Marketing Act of 1946.

The fresh fruit and vegetable grade standards covered by these proposed changes are: Sweet anise, lima beans, beets, Brussels sprouts, cabbage, celery, cucumbers, endive, garlic, collard greens or broccoli greens, mustard greens and turnip greens, honey dew and honey ball type melons, horseradish roots, greenhouse leaf lettuce, mushrooms, common green onions, onion sets, parsnips, fresh peas, southern peas, rhubarb, romaine, bunched shallots, spinach plants, summer squash, turnips or rutabagas, dewberries and blackberries, American grapes, juice grapes, Persian limes, summer and fall pears, winter pears, and raspberries.

The fresh fruit and vegetable for processing grade standards covered by these proposed changes are spinach, berries, blueberries, red sour cherries for manufacture, sweet cherries for canning or freezing, cranberries for processing, currants, raspberries, growers' stock strawberries for manufacture, and washed and sorted strawberries for freezing.

The nut and specialty crops grade standards covered by these proposed changes are: Brazil nuts in the shell, cut peonies in the bud, and tomato plants.

AMS continually reviews all fruit, vegetable, nut and specialty crop grade standards to ensure their usefulness to the industry. AMS has identified that the “Unclassified” section needs to be eliminated from the 46 aforementioned U.S. Standards for Grade. The “Unclassified” category is not a grade and only serves to show that no grade has been applied to the lot. It is no longer considered necessary.

This notice provides for a 60-day comment period for interested parties to comment on the proposed revisions in the standards.

Authority: 7 U.S.C. 1621-1627.

Dated: August 28, 2015.
Rex A. Barnes,
Associate Administrator, Agricultural Marketing Service.

[FR Doc. 2015-21836 Filed 9-1-15; 8:45 am]

BILLING CODE 3410-02-P